NATIONAL AERONAUTICS AND SPACE ADMINISTRATION

[Notice (03-046)]

Notice of Prospective Patent License

AGENCY: National Aeronautics and Space Administration.

ACTION: Notice of prospective patent license.

SUMMARY: NASA hereby gives notice that Energetix, Inc., of Rochester, New York, has applied for a partially exclusive license to practice the following inventions disclosed in U.S. Patent No. 5,585,083 entitled “Catalytic Process for Formaldehyde Oxidation”; U.S. Patent No. 6,132,694 entitled “Catalyst for Oxidation of Volatile Organic Compounds”; U.S. Patent No. 5,948,965 entitled “Solid State Carbon Monoxide Sensor”; NASA Case No. LAR 15851-1-CU entitled “Process for Coating Substrates with Catalyst Materials”; and NASA Case No. LAR 15712-1-CU “Catalytic Oxidation Sensor for Hydrocarbons and Volatile Organic Compounds”; all of which are assigned to the United States of America as represented by the Administrator of the National Aeronautics and Space Administration. Written objections to the prospective grant of a license should be sent to Langley Research Center. NASA has not yet made a determination to grant the requested license and may deny the requested license even if no objections are submitted within the comment period.

DATES: Responses to this notice must be received by May 21, 2003.

FOR FURTHER INFORMATION CONTACT: Helen M. Galus, Patent Attorney, Langley Research Center, Mail Stop 212, Hampton, VA 23681-2199, telephone 757-864-3227; fax 757-864-9190.

Dated: April 29, 2003.
Robert M. Stephens,
Deputy General Counsel.

[FR Doc. 03-11115 Filed 5-5-03; 8:45 am]

BILLING CODE 7510-01-P